DEPARTMENT OF DEFENSE

Department of the Army; Corps of Engineers

Intent To Prepare a Draft Programmatic Environmental Impact Statement (DEIS) for the Florida Keys Water Quality Improvements Program

AGENCY: Department of the Army, U.S. Army Corps of Engineers, DoD.

ACTION: Notice of intent.

SUMMARY: The Jacksonville District, U.S. Army Corps of Engineers (Corps) intends to prepare a Draft Programmatic Environmental Impact Statement (EIS) for the Florida Keys Water Quality Improvement Program involving the planning, design and construction of wastewater treatment systems to improve water quality within the Florida Keys National Marine Sanctuary. This program is a cooperative effort between the Corps (lead Federal agency) and the South Florida Water Management District (non-Federal sponsor).

FOR FURTHER INFORMATION CONTACT: Barbara Cintron, 904-232-1692, Environmental Branch, Planning Division, P.O. Box 4970, Jacksonville, Florida 32232-0019 or e-mail at: Barbara.B.Cintron@ saj02.usace.army.mil.

SUPPLEMENTARY INFORMATION: Under authority of Public Law 106-554, Department of Labor, Health and Human Services and Education, Related Agencies Appropriations Act of 2001, Section 109 and Conference Report H.R. 4577, the Corps is authorized to provide technical and financial assistance to carry out projects for the planning, design and construction of treatment works to improve the water quality of the Florida Keys National Marine Sanctuary. The marine ecosystem of the Florida Keys National Marine Sanctuary is dependent on acceptable water quality to maintain fragile aquatic habitats. However, as population and tourism within the Keys have increased over the years, improvements in wastewater treatment and management practices have not kept pace with this growth. Ongoing research has suggested that this trend has resulted in a significant degradation of water quality in canals and nearshore waters surrounding the Florida Keys and that nutrients from waterwater are one of the major contributors to the decline of the water quality. This, in turn, is prompting the proposal to improve sewage treatment practices throughout the Florida Keys. According to the Monroe County Sanitary Wastewater Master Plan, approximately 23,000 private onsite systems and 250 small wastewater treatment plants are currently operating throughout the Florida Keys. It is estimated that the onsite systems contribute 4.88 million gallons per day (mgd) of wastewater and the treatment plants contribute an additional 2.40 mgd of wastewater. Many of these onsite systems and treatment plants provide minimal nutrient removal. The primary objective of the Florida Keys Water Quality Improvements Program is to improve wastewater management practices throughout the Florida Keys and satisfy the existing and future needs for the community. Several wastewater master plans have been prepared for Monroe County and other municipalities within Monroe County that the Corps plans to utilize as the base for the planning component of the Florida Keys Water Quality Improvement Program. These wastewater master plans recommend that existing onsite systems located in lower density areas of the Florida Keys be upgraded or replaced with onsite wastewater nutrient reduction systems. The wastewater master plan also recommended the construction of 12 community wastewater collection and treatment systems and five regional systems. Five of the 12 community systems would feature interim treatment plants that over time would be phased into larger regional treatment systems. In addition to the new systems and extension of the existing systems, the plans recommend that 17 existing facilities continue to operate and upgrade their treatment processes to meet the best available technology/advanced wastewater treatment standards. The estimated cost to implement these master plans is approximately $500 million.

Alternatives: Alternatives to be considered include (1) no action, or continued reliance on septic tanks and cesspits for wastewater treatment, or (2) the proposed action involving the implementation of wastewater master plans prepared for Monroe County and various municipalities within Monroe County.

Issues: The EIS will consider water quality impacts on the Florida Keys National Marine Sanctuary, preservation of coral reefs, impacts to protected species, shore protection, health and safety, aesthetics and recreation, fish and wildlife resources, cultural resources, socio-economic resources, and other impacts through scoping, public involvement, and interagency coordination.

Scoping: A copy of this notice will be sent to interested parties to initiate the scoping process, which will involve Federal, State, County and municipal agencies and other interested parties and organizations. All parties are invited to participate in the scoping process by identifying any additional concerns on issues, alternatives, procedures, and other matters related to the scoping process.

Public Involvement: We invite the participation of affected Federal, State, and local agencies, affected Indian tribes, and other interested private organizations and parties. The Corps plans to hold two sets of public meetings associated with the planning component of the Florida Keys Water Quality Improvements Program.

Coordination: The proposed action is being coordinated with U.S. Fish and Wildlife Service (FWS) and the National Marine Fisheries Service under Section 7 of the Endangered Species Act, with the FWS under the Fish and Wildlife Coordination Act, and with the State Historic Preservation Officer.

Other Environmental Review and Consultation: The proposed action would involve evaluation for compliance with guidelines pursuant to Section 404(b) of the Clean Water Act; application (to the State of Florida) for Water Quality Certification pursuant to Section 401 of the Clean Water Act; certification of state lands, easements and rights-of-way; and determination of Coastal Zone Management Act consistency.

Agency Role: As the non-Federal sponsor, the South Florida Water Management District will provide extensive information and assistance coordinating local units of government and with the identification of resources to be impacted, mitigation measures, alternatives and prioritization of program components.

DEIS Preparation: It is estimated that the Draft EIS will be available to the public for review by January 2003. The Corps plans to post the Draft EIS on the environmental documents page of the Jacksonville District's Web Site (http://www.saj.usace.army.mil/pd/env-doc.html.)

George M. Strain,
Acting Chief, Planning Division.

[FR Doc. 02-23004 Filed 9-9-02; 8:45 am]

BILLING CODE 3710-AJ-M